DEPARTMENT OF COMMERCE

National Oceanic and Atmospheric Administration

[RTID 0648-XE100]

Gulf of Mexico Fishery Management Council; Public Meeting; Correction

AGENCY: National Marine Fisheries Service (NMFS), National Oceanic and Atmospheric Administration (NOAA), Commerce.

ACTION: Notice of a correction of a public meeting notice.

SUMMARY: The Gulf of Mexico Fishery Management Council (Council) will hold a two-day in-person meeting of its Standing, Reef Fish, Socioeconomic, and Ecosystem Scientific and Statistical Committees (SSC).

DATES: The meeting will be held Wednesday, July 31, 2024, from 8:30 a.m. to 5 p.m., EDT, and Thursday, August 1, 2024, from 8:30 a.m. to 5:30 p.m., EDT.

ADDRESSES: The meeting will take place at the Gulf Council's office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION: A meeting notice was published in the Federal Register on July 10, 2024 (89 FR 56738). Below are the following corrections:

In the DATES section, the notice read: The meeting will be held Wednesday, July 31, 2024, from 8:30 a.m. to 5 p.m., EDT, and Thursday, Wednesday, August 1, 2024, from 8:30 a.m. to 5:30 p.m., EDT.

It should read: The meeting will be held Wednesday, July 31, 2024, from 8:30 a.m. to 5 p.m., EDT, and Thursday, August 1, 2024, from 8:30 a.m. to 5:30 p.m., EDT.

In the SUPPLEMENTARY INFORMATION, the second date was listed as Wednesday, May 8, 2024; 8:30 a.m.-5:30 p.m., EDT.

The date is incorrect and should read Thursday, August 1, 2024; 8:30 a.m.-5:30 p.m., EDT.

All other information previously published remains unchanged.

Authority: 16 U.S.C. 1801 et seq.

Dated: July 10, 2024.
Rey Israel Marquez,
Acting Deputy Director, Office of Sustainable Fisheries, National Marine Fisheries Service.

[FR Doc. 2024-15487 Filed 7-15-24; 8:45 am]

BILLING CODE 3510-22-P